DEPARTMENT OF HEALTH AND HUMAN SERVICES

National Institutes of Health

National Library of Medicine Notice of Meetings Amended Notice of Meeting

Notice is hereby given of a change in the meeting of the Literature Selection Technical Review Committee, June 11-12, 2020, 8:30 a.m. to 5:00 p.m., video assisted meeting, which was published in the Federal Register on April 20, 2020, 85 FR 76, Page 21868.

This notice is being amended to change the meeting dates to June 10-11, 2020 and the times for both days from 10:00 a.m. to 3:00 p.m. This meeting will be a video assisted meeting and will be closed to the public.

Dated: June 2, 2020.
Ronald J. Livingston, Jr.,
Program Analyst, Office of Federal Advisory Committee Policy.

[FR Doc. 2020-12254 Filed 6-4-20; 8:45 am]

BILLING CODE 4140-01-P